DEPARTMENT OF DEFENSE

Department of the Navy

[USN-2008-0004]

Privacy Act of 1974; Systems of Records

AGENCY: Department of the Navy, Department of Defense.

ACTION: Notice To Alter a System of Records.

SUMMARY: The Department of Navy proposes to alter a system of records notice in its inventory of record systems subject to the Privacy Act of 1974 (5 U.S.C. 552a), amended. The alteration adds three new routine uses and expands the categories of records collected.

DATES: This action will be effective without further notice on March 13, 2008 unless comments are received that would result in a contrary determination.

ADDRESSES: Send comments to the Privacy Act Officer, Mrs. Doris Lama, Department of the Navy, 2000 Navy Pentagon, Washington, DC 20350-2000.

FOR FURTHER INFORMATION CONTACT: Mrs. Doris Lama at (202) 685-6545.

SUPPLEMENTARY INFORMATION: The Department of the Navy notices for systems of records subject to the Privacy Act of 1974 (5 U.S.C. 552a), as amended, have been published in the Federal Register and are available from the address above.

The proposed system report, as required by 5 U.S.C. 552a(r) of the Privacy Act of 1974, as amended, was submitted on February 5, 2008, to the House Committee on Government Oversight and Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

February 6, 2008.
L.M. Bynum,
Alternate OSD Federal Register Liaison Officer, Department of Defense.

NM01700-1

System name:

DON General Morale, Welfare, and Recreation Records (June 14, 2006, 71 FR 34321).

Changes:

* * * * *

System location:

Delete http://neds.daps.dla.mil/sndl.htm and replace with http://doni.daps.dla.mil/sndl.aspx.

* * * * *

Categories of records in the system:

After the words “insurance information;” add “credit cards and other records of payments;”

Add second paragraph “Activities that follow the American College of Sports Medicine Rules and Guidelines collect additional information, such as medical history, medications being taken, injury status, and who to contact in case of emergency.”

Authority for maintenance of the system:

Delete entry and replace with “10 U.S.C. 5013, Secretary of the Navy; 10 U.S.C. 5041, Headquarters, Marine Corps; 26 U.S.C. 6041; BUPERS Instruction 1710.11C, Operations of Morale, Welfare and Recreation Programs 2003; MCOP 1700.27, Marine Corps, Morale, Welfare and Recreation Policy Manual, Ch 1; NAVSO P-3520, Financial Management Policies and Procedures for Morale, Welfare and Recreation Programs; and E.O. 9397 (SSN).”

Purpose(s):

Delete para 2.

Add new paras “To provide a means of paying, recording, accounting, reporting, and controlling expenditures and merchandise inventories associated with MWR programs, activities, and events to include raffles, Monte Carlo, bingo prizes, and gaming machines.

To enable fitness/sports facility personnel to determine the appropriate level of activity participation.

To provide on-base emergency personnel with medical information regarding the emergency.”

Routine uses of records maintained in the system, including categories of users and the purposes of such uses:

Add the following three routine uses to this section:

“To the media or for public release to publicize the names and photographs of participants in league or other activities and events for marketing or other similar purposes.

To credit card processors, banks, and other financial institutions to process payments made by credit or debit cards, by check, or other payment methods.

To provide health and personal information to an off-base medical treatment facility should a member be taken there for treatment.

Policies and practices for storing, retrieving, accessing, retaining, and disposing of records in the system:

Storage:

Delete entry and replace with “Paper records in file folders and networked data bases.”

* * * * *

System manager(s) and address:

Delete entry and replace with “Policy Officials: For Navy activities—Commander, Navy Installations Command (N-94), 5720 Integrity Drive, Millington, TN 38055-6500; For Marine Corps activities—Commandant of the Marine Corps, Personal and Family Readiness Division (MRX), 3044 Catlin Avenue, Quantico, VA 22134-5099.”

Record Holders:

Commanding officer of the activity in question. Official mailing addresses are published in the Standard Navy Distribution List that is available at http://doni.daps.dla.mil/sndl.aspx.

Notification procedure:

In entry delete http://neds.daps.dla.mil/sndl.htm and replace with http://doni.daps.dla.mil/sndl.aspx.

Record access procedures:

In entry delete http://neds.daps.dla.mil/sndl.htm and replace with http://doni.daps.dla.mil/sndl.aspx.

* * * * *

Record source categories:

Delete entry and replace with “Individual or group receiving the MWR services to include but not limited to Monte Carlo, others who operate MWR programs, classes, events, and companies.”

* * * * *

NM01700-1

System name:

DON General Morale, Welfare, and Recreation Records.

System location:

Organizational elements of the Department of the Navy. Official mailing addresses are published in the Standard Navy Distribution List that is available at http://doni.daps.dla.mil/sndl.aspx.

Commander, U.S. Joint Forces Command, 1562 Mitscher Avenue, Suite 200, Norfolk, VA 23551-2488.

Commander, U.S. Pacific Command, P.O. Box 64028, Camp H.M. Smith, HI 96861-4028.

Categories of individuals covered by the system:

Personnel authorized to use DON-sponsored Morale, Welfare, Recreation (MWR) services, youth services, athletic and recreational services, Armed Forces Recreation Centers, DON recreation machines, and/or to participate in MWR-type activities, to include: bingo games; professional entertainment groups recognized by the Armed Forces Entertainment; DON athletic team members; ticket holders of athletic events; and units of national youth groups such as Boy Scouts, Girl Scouts, and 4-H Clubs.

Categories of records in the system:

Name; branch of service; home and duty station addresses; home, business, and cell telephone numbers; military/ civilian status; Social Security Number; Unit Identification Code (UIC); travel orders/vouchers; security check results; command contact person; boat and mooring storage agreement; insurance information; credit cards and other records of payments; contact address; contract, waiver, release, and indemnification agreements; check out and control sheets; bingo pay-out control sheet indicating individual name, grade, Social Security Number, duty station, dates and amount of bingo winnings paid; and Internal Revenue Forms W2-G and 5754, (Gambling Winnings and Statement by Person(s) Receiving Gambling Winnings, respectively).

Activities that follow the American College of Sports Medicine Rules and Guidelines collect additional information, such as medical history, medications being taken, injury status, and who to contact in case of emergency.

Authority for maintenance of the system:

10 U.S.C. 5013, Secretary of the Navy; 10 U.S.C. 5041, Headquarters, Marine Corps; 26 U.S.C. 6041; BUPERS Instruction 1710.11C, Operations of Morale, Welfare and Recreation Programs 2003; MCOP 1700.27, Marine Corps, Morale, Welfare and Recreation Policy Manual, Ch 1; NAVSO P-3520, Financial Management Policies and Procedures for Morale, Welfare and Recreation Programs; and E.O. 9397 (SSN).

Purpose(s):

To administer programs devoted to the mental and physical well-being of DON personnel and other authorized users; to document the approval and conduct of specific contests, shows, entertainment programs, sports activities/competitions, and other MWR-type activities and events sponsored or sanctioned by the DON.

To provide a means of paying, recording, accounting, reporting, and controlling expenditures and merchandise inventories associated with MWR programs, activities, and events to include raffles, Monte Carlo, bingo prizes, and gaming machines.

To enable fitness/sports facility personnel to determine the appropriate level of activity participation.

To provide on-base emergency personnel with medical information regarding the emergency.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the media or for public release to publicize the names and photographs of participants in league or other activities and events for marketing or other similar purposes.

To credit card processors, banks, and other financial institutions to process payments made by credit or debit cards, by check, or other payment methods.

To provide health and personal information to an off-base medical treatment facility should a member be taken there for treatment.

To the Internal Revenue Service to report all monies and items of merchandise paid to winners of games whose one-time winnings are $1,200 or more.

The DoD ‘Blanket Routine Uses’ set forth at the beginning of the Navy's compilation of systems of records notices also apply to this system.

Policies and practices for storing, retrieving, accessing, retaining, and disposing of records in the system:

Storage:

Paper records in file folders and networked data bases.

Retrievability:

Name and Social Security Number of patron.

Safeguards:

Password controlled system, file, and element access based on predefined need-to-know. Physical access to terminals, terminal rooms, buildings and activities' grounds are controlled by locked terminals and rooms, guards, personnel screening and visitor registers.

Retention and disposal:

Bingo records are maintained on-site for four years and then shipped to a Federal Records Center for storage for an additional three years. After seven years, records are destroyed.

All other documents are destroyed after 2 years, unless required for current operation.

System manager(s) and address:

Policy Officials: For Navy activities—Commander, Navy Installations Command (N-94), 5720 Integrity Drive, Millington, TN 38055-6500; For Marine Corps activities—Commandant of the Marine Corps, Personal and Family Readiness Division (MRX), 3044 Catlin Avenue, Quantico, VA 22134-5099.

Record Holders: Commanding officer of the activity in question. Official mailing addresses are published in the Standard Navy Distribution List that is available at http://doni.daps.dla.mil/sndl.aspx.

Notification procedure:

Individuals seeking to determine whether this system of records contains information about themselves should address written inquiries to the commanding officer of the activity in question. Official mailing addresses are published in the Standard Navy Distribution List that is available at http://doni.daps.dla.mil/sndl.aspx.

The request should include full name, Social Security Number (SSN), address of the individual concerned and be signed.

Record access procedures:

Individuals seeking access to records about themselves contained in this system of records should address written inquiries to the commanding officer of the activity in question. Official mailing addresses are published in the Standard Navy Distribution List that is available at http://doni.daps.dla.mil/sndl.aspx.

The request should include full name, Social Security Number (SSN), address of the individual concerned, and be signed.

Contesting record procedures:

The Navy's rules for accessing records, and for contesting contents and appealing initial agency determinations are published in Secretary of the Navy Instruction 5211.5; 32 CFR part 701; or may be obtained from the system manager.

Record source categories:

Individual or group receiving the MWR services to include but not limited to Monte Carlo, others who operate MWR programs, classes, events, and companies.

Exemptions claimed for the system:

None.

[FR Doc. E8-2537 Filed 2-11-08; 8:45 am]

BILLING CODE 5001-06-P